SMALL BUSINESS ADMINISTRATION

[Declaration of Disaster #3501]

State of New York

As a result of the President's major disaster declaration on May 12, 2003, I find that Cayuga, Monroe, Oneida, Onondaga, Ontario, Oswego, Seneca and Wayne Counties in the State of New York constitute a disaster area due to damages caused by an ice storm occurring on April 3 through April 5, 2003. Applications for loans for physical damage as a result of this disaster may be filed until the close of business on July 11, 2003 and for economic injury until the close of business on February 12, 2004 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Cortland, Genesee, Herkimer, Jefferson, Lewis, Livingston, Madison, Orleans, Otsego, Schuyler, Steuben, Tompkins and Yates in the State of New York.

The interest rates are:

| Percent
For Physical Damage:
Homeowners with Credit Available Elsewhere | 5.875
Homeowners without Credit Available Elsewhere | 2.937
Businesses with Credit Available Elsewhere | 6.378
Businesses and Non-Profit Organizations without Credit Available Elsewhere | 3.189
Others (Including Non-Profit Organizations) With Credit Available Elsewhere | 5.500
For Economic Injury:
Businesses and Small Agricultural Cooperatives Without Credit Available Elsewhere | 3.189

The number assigned to this disaster for physical damage is 350111 and for economic injury the number is 9V3200.

(Catalog of Federal Domestic Assistance Program Nos. 59002 and 59008).
Dated: May 13, 2003.
Herbert L. Mitchell,
Associate Administrator for Disaster Assistance.

[FR Doc. 03-12472 Filed 5-16-03; 8:45 am]

BILLING CODE 8025-01-P